DEPARTMENT OF ENERGY

Federal Energy Regulatory Commission

Combined Notice of Filings #1

Take notice that the Commission received the following exempt wholesale generator filings:

Docket Numbers: EG25-540-000.

Applicants: SR Adamsville, LLC.

Description: SR Adamsville, LLC submits Notice of Self-Certification of Exempt Wholesale Generator Status.

Filed Date: 9/26/25.

Accession Number: 20250926-5082.

Comment Date: 5 p.m. ET 10/17/25.

Docket Numbers: EG25-541-000.

Applicants: BT Cantwell Solar, LLC.

Description: BT Cantwell Solar, LLC submits Notice of Self-Certification of Exempt Wholesale Generator Status.

Filed Date: 9/26/25.

Accession Number: 20250926-5116.

Comment Date: 5 p.m. ET 10/17/25.

Take notice that the Commission received the following electric rate filings:

Docket Numbers: ER25-1886-001.

Applicants: Midcontinent Independent System Operator, Inc.

Description: Tariff Amendment: 2025-09-26_Deficiency Response to Demand Response and Emergency Resources Reform to be effective 9/1/2027.

Filed Date: 9/26/25.

Accession Number: 20250926-5129.

Comment Date: 5 p.m. ET 10/17/25.

Docket Numbers: ER25-3352-001.

Applicants: PPL Electric Utilities Corporation.

Description: Tariff Amendment: Amendment PPL Electric Order No. 898 Rate Filing to be effective 10/31/2025.

Filed Date: 9/26/25.

Accession Number: 20250926-5029.

Comment Date: 5 p.m. ET 10/3/25.

Docket Numbers: ER25-3352-002.

Applicants: PPL Electric Utilities Corporation.

Description: Tariff Amendment: Amendment PPL Electric Order No. 898 Rate Filing to be effective 10/31/2025.

Filed Date: 9/26/25.

Accession Number: 20250926-5100.

Comment Date: 5 p.m. ET 10/17/25.

Docket Numbers: ER25-3522-000.

Applicants: Minco Wind I, LLC.

Description: 205(d) Rate Filing: Minco Wind I Certificate of Concurrence to SFA in ER25-3398 to be effective 9/26/2025.

Filed Date: 9/25/25.

Accession Number: 20250925-5135.

Comment Date: 5 p.m. ET 10/16/25.

Docket Numbers: ER25-3523-000.

Applicants: Minco II Energy Storage, LLC.

Description: 205(d) Rate Filing: Minco II ES Certificate of Concurrence to SFA in ER25-3398 to be effective 9/26/2025.

Filed Date: 9/25/25.

Accession Number: 20250925-5138.

Comment Date: 5 p.m. ET 10/16/25.

Docket Numbers: ER25-3524-000.

Applicants: Pacific Gas and Electric Company.

Description: 205(d) Rate Filing: WDT SA 3: Extension to Port of Oakland SA to be effective 11/26/2025.

Filed Date: 9/26/25.

Accession Number: 20250926-5000.

Comment Date: 5 p.m. ET 10/17/25.

Docket Numbers: ER25-3525-000.

Applicants: PJM Interconnection, L.L.C.

Description: 205(d) Rate Filing: Original E&P Agreement, SA No. 7739; Project Identifier No. AF2-388/AG1-433 to be effective 9/2/2025.

Filed Date: 9/26/25.

Accession Number: 20250926-5024.

Comment Date: 5 p.m. ET 10/17/25.

Docket Numbers: ER25-3525-001.

Applicants: PJM Interconnection, L.L.C.

Description: Tariff Amendment: Amended E&P Agreement, SA No. 7739; Project Identifier No. AF2-388/AG1-433 to be effective 9/2/2025.

Filed Date: 9/26/25.

Accession Number: 20250926-5090.

Comment Date: 5 p.m. ET 10/17/25.

Docket Numbers: ER25-3526-000.

Applicants: Keystone Wind Marketing LLC.

Description: Tariff Amendment: Keystone Wind Notice of MBR Cancellation Request to be effective 9/27/2025.

Filed Date: 9/26/25.

Accession Number: 20250926-5027.

Comment Date: 5 p.m. ET 10/17/25.

Docket Numbers: ER25-3527-000.

Applicants: American Transmission Systems, Incorporated.

Description: 205(d) Rate Filing: ATSI submits amended IA SA No. 3994 to be effective 11/26/2025.

Accession Number: 20250926-5030.

Comment Date: 5 p.m. ET 10/17/25.

Docket Numbers: ER25-3528-000.

Applicants: PJM Interconnection, L.L.C.

Description: 205(d) Rate Filing: Amendment to ISA, SA No. 1365; Queue No. H21_W68/K11 to be effective 11/26/2025.

Filed Date: 9/26/25.

Accession Number: 20250926-5033.

Comment Date: 5 p.m. ET 10/17/25.

Docket Numbers: ER25-3529-000.

Applicants: Louisville Gas and Electric Company.

Description: Tariff Amendment: KYMEA Engineering and Procurement Services Agreement Termination to be effective 9/15/2025.

Filed Date: 9/26/25.

Accession Number: 20250926-5046.

Comment Date: 5 p.m. ET 10/17/25.

Docket Numbers: ER25-3530-000.

Applicants: NorthWestern Corporation.

Description: Tariff Amendment: Cancellation of RS 324 Interface Capacity Settlement Agmt to be effective 12/1/2025.

Filed Date: 9/26/25.

Accession Number: 20250926-5047.

Comment Date: 5 p.m. ET 10/17/25.

Docket Numbers: ER25-3531-000.

Applicants: Louisville Gas and Electric Company.

Description: Tariff Amendment: KYMEA Provisional Large Generator Interconnection Agreement Termination to be effective 9/15/2025.

Filed Date: 9/26/25.

Accession Number: 20250926-5050.

Comment Date: 5 p.m. ET 10/17/25.

Docket Numbers: ER25-3532-000.

Applicants: Northern States Power Company, a Minnesota corporation.

Description: 205(d) Rate Filing: 2025-09-25 NSP—HES—Sioux Falls SISA—776 to be effective 9/29/2025.

Filed Date: 9/26/25.

Accession Number: 20250926-5059.

Comment Date: 5 p.m. ET 10/17/25.

Docket Numbers: ER25-3533-000.

Applicants: Pacific Gas and Electric Company.

Description: 205(d) Rate Filing: TO: Balancing Accounts Update 2026 (TRBAA, RSBAA, ECRBAA) to be effective 1/1/2026.

Filed Date: 9/26/25.

Accession Number: 20250926-5075.

Comment Date: 5 p.m. ET 10/17/25.

Docket Numbers: ER25-3534-000.

Applicants: Northern States Power Company, a Minnesota corporation.

Description: 205(d) Rate Filing: 2025-09-25 NSP—HES—Madelia SISA 777 to be effective 9/29/2025.

Filed Date: 9/26/25.

Accession Number: 20250926-5079.

Comment Date: 5 p.m. ET 10/17/25.

Docket Numbers: ER25-3535-000.

Applicants: PJM Interconnection, L.L.C.

Description: 205(d) Rate Filing: Amendment to ISA, Service of Agreement No. 6827; AE1-108 to be effective 11/26/2025.

Filed Date: 9/26/25.

Accession Number: 20250926-5096.

Comment Date: 5 p.m. ET 10/17/25.

Docket Numbers: ER25-3536-000.

Applicants: PJM Interconnection, L.L.C.

Description: Tariff Amendment: Notice of Cancellation of GIA SA No. 7530; Project Identifier No. AG1-239 to be effective 11/26/2025.

Filed Date: 9/26/25.

Accession Number: 20250926-5115.

Comment Date: 5 p.m. ET 10/17/25.

Docket Numbers: ER25-3537-000.

Applicants: PJM Interconnection, L.L.C.

Description: Tariff Amendment: Notice of Cancellation of CSA SA No. 7531; Project Identifier No. AG1-239 to be effective 11/26/2025.

Filed Date: 9/26/25.

Accession Number: 20250926-5121.

Comment Date: 5 p.m. ET 10/17/25.

Docket Numbers: ER25-3538-000.

Applicants: PJM Interconnection, L.L.C.

Description: Tariff Amendment: Notice of Cancellation of CSA SA No. 7532; Project Identifier No. AG1-239 to be effective 11/26/2025.

Filed Date: 9/26/25.

Accession Number: 20250926-5128.

Comment Date: 5 p.m. ET 10/17/25.

Docket Numbers: ER25-3539-000.

Applicants: Southwest Power Pool, Inc.

Description: 205(d) Rate Filing: Revisions to Attachment V GIP for Integration of IBR Performance Requirements to be effective 11/26/2025.

Filed Date: 9/26/25.

Accession Number: 20250926-5130.

Comment Date: 5 p.m. ET 10/17/25.

Docket Numbers: ER25-3540-000.

Applicants: Northern States Power Company, a Wisconsin corporation.

Description: 205(d) Rate Filing: 2025-09-26 NSP-DPC FSA 177 to be effective 9/29/2025.

Filed Date: 9/26/25.

Accession Number: 20250926-5131.

Comment Date: 5 p.m. ET 10/17/25.

Docket Numbers: ER25-3541-000.

Applicants: PJM Interconnection, L.L.C.

Description: Compliance filing: Compliance Filing to Include Details of Calculation of Opportunity Cost Adders to be effective 12/5/2025.

Filed Date: 9/26/25.

Accession Number: 20250926-5142.

Comment Date: 5 p.m. ET 10/17/25.

Docket Numbers: ER25-3542-000.

Applicants: Alliant Energy Corporate Services, Inc.

Description: 205(d) Rate Filing: Amended and Restated System Coordination and Operating Agreement to be effective 11/26/2025.

Filed Date: 9/26/25.

Accession Number: 20250926-5145.

Comment Date: 5 p.m. ET 10/17/25.

Docket Numbers: ER25-3543-000.

Applicants: Midcontinent Independent System Operator, Inc.

Description: 205(d) Rate Filing: 2025-09-26_Att X—ERAS Quarterly Study Cycle Expansion to be effective 11/26/2025.

Filed Date: 9/26/25.

Accession Number: 20250926-5169.

Comment Date: 5 p.m. ET 10/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: September 26, 2025.
Debbie-Anne A. Reese,
Secretary.

[FR Doc. 2025-19158 Filed 9-30-25; 8:45 am]

BILLING CODE 6717-01-P